DEPARTMENT OF ENERGY

Federal Energy Regulatory Commission

[Docket No. AD22-10-000]

Reliability Technical Conference; Third Supplemental Notice of Technical Conference

As announced in the Notices of Technical Conference issued in this proceeding on August 23, 2022, October 4, 2022, and October 28, 2022, the Federal Energy Regulatory Commission (Commission) will convene its annual Commissioner-led Reliability Technical Conference in the above-referenced proceeding on Thursday, November 10, 2022, from approximately 12:00 p.m. to 5:00 p.m. Eastern time. The conference will be held in-person at the Commission's headquarters at 888 First Street NE, Washington, DC 20426 in the Commission Meeting Room.

The purpose of this conference is to discuss policy issues related to the reliability and security of the Bulk-Power System.

The conference will be open for the public to attend, and there is no fee for attendance. Information about this technical conference can be found on the Events Calendar on the Commission's website, www.ferc.gov. The conference will also be transcribed. Transcripts will be available for a fee from Ace Reporting, (202) 347-3700.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference, please contact Lodie White at Lodie.White@ferc.gov or (202) 502-8453. For information related to logistics, please contact Sarah McKinley at Sarah.Mckinley@ferc.gov or (202) 502-8368.

Dated: November 3, 2022.
Debbie-Anne A. Reese,
Deputy Secretary.

[FR Doc. 2022-24441 Filed 11-8-22; 8:45 am]

BILLING CODE 6717-01-P